NUCLEAR REGULATORY COMMISSION

10 CFR Part 50

[NRC-2011-0087]

RIN 3150-AI96

Non-Power Reactor License Renewal

AGENCY: Nuclear Regulatory Commission.

ACTION: Preliminary draft regulatory basis; request for comment.

SUMMARY: The U.S. Nuclear Regulatory Commission (NRC or the Commission) is making available a preliminary draft regulatory basis for a proposed rulemaking that would amend the NRC's regulations concerning the license renewal requirements for non-power reactors. This contemplated rulemaking would also make conforming changes to address technical issues in existing non-power reactor regulations. The NRC is seeking input from the public, licensees, certificate holders, and other stakeholders on the preliminary draft regulatory basis.

DATES: Submit comments by July 31, 2012. Comments received after this date will be considered if it is practical to do so, but the NRC is able to ensure consideration only for comments received on or before this date.

ADDRESSES: You may access information and comment submissions related to this preliminary draft regulatory basis, which the NRC possesses and are publicly available, by searching on http://www.regulations.gov under Docket ID NRC-2011-0087. You may submit comments by any of the following methods (unless this document describes a different method for submitting comments on a specific subject):

• Federal Rulemaking Web site: Go to http://www.regulations.gov and search for Docket ID NRC-2011-0087. Address questions about NRC dockets to Carol Gallagher; telephone: 301-492-3668; email: Carol.Gallagher@nrc.gov.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on accessing information and submitting comments, see “Accessing Information and Submitting Comments” in the SUPPLEMENTARY INFORMATION section of this document.

FOR FURTHER INFORMATION CONTACT: Duane Hardesty, Project Manager, Research and Test Reactors Licensing Branch, Division of Policy and Rulemaking, Office of Nuclear Reactor Regulation, Mail Stop: O12-E20, U.S. Nuclear Regulatory Commission, Washington, DC 20555-0001; telephone: 301-415-3724; email: Duane.Hardesty@nrc.gov.

SUPPLEMENTARY INFORMATION:

I. Accessing Information and Submitting Comments

A. Accessing Information

Please refer to Docket ID NRC-2011-0087 when contacting the NRC about the availability of information for this preliminary draft regulatory basis. You may access information related to this preliminary draft regulatory basis, which the NRC possesses and are publicly available, by any of the following methods:

• Federal Rulemaking Web Site: Go to http://www.regulations.gov and search for Docket ID NRC-2011-0087.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The preliminary draft regulatory basis is available in ADAMS under Accession No. ML12167A383.

• NRC's PDR: You may examine and purchase copies of public documents at the NRC's PDR, Room O1-F21, One White Flint North, 11555 Rockville Pike, Rockville, Maryland 20852.

B. Submitting Comments

Please include Docket ID NRC-2011-0087 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

In response to Commission direction in a Staff Requirements Memorandum for SECY-08-0161 (ADAMS Accession Nos. ML082550140 and ML090850159), the NRC has developed a preliminary draft regulatory basis for a proposed rulemaking regarding non-power reactor licenses. The preliminary draft regulatory basis document describes the NRC's overall objectives, conceptual approaches, potential solutions, integration with the NRC's strategic goals, and related technical and regulatory clarity issues for the proposed rulemaking. The NRC is soliciting comments on this preliminary draft regulatory basis document from the public, licensees, and other stakeholders to confirm that an adequate regulatory basis exists to proceed with rulemaking to issue amended license renewal regulations for non-power reactors. The NRC conducted public meetings and Webinars on September 13 (ML112710285), and December19, 2011 (ML113630166), and on June 20, 2012 (ML12177A334), to discuss the regulatory basis and to facilitate the public's and stakeholders' submission of informed comments.

The NRC is issuing this notice to solicit public comments on the preliminary draft regulatory basis to streamline non-power reactor license renewal. After the NRC staff considers public comments, it will make a determination regarding issuance of the final regulatory basis. Any subsequent versions of the regulatory basis will be posted on www.regulations.gov in Docket ID NRC-2011-0087. Regulations.gov allows you to receive alerts when changes or additions occur in a docket folder. To subscribe: (1) Navigate to the docket folder, NRC-2011-0087; (2) click the “Email Alert” link; and (3) enter your email address and select how frequently you would like to receive emails (daily, weekly or monthly).

Dated at Rockville, Maryland, this 25th day of June, 2012.
For the Nuclear Regulatory Commission.
Jessie F. Quichocho,
Chief, Research and Test Reactors Licensing Branch, Division of Policy and Rulemaking, Office of Nuclear Reactor Regulation.

[FR Doc. 2012-16115 Filed 6-28-12; 8:45 am]

BILLING CODE 7590-01-P